DEPARTMENT OF COMMERCE

National Oceanic and Atmospheric Administration

RIN 0648-XQ40

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that the subject exempted fishing permit (EFP) application contains all the required information and warrants further consideration. Therefore, NMFS announces that the Assistant Regional Administrator proposes to recommend that an EFP be issued that would allow commercial fishing vessels to conduct fishing operations that are otherwise restricted by the regulations governing the fisheries of the Northeastern United States. Regulations under the Magnuson-Stevens Fishery Conservation and Management Act require publication of this notification to provide interested parties the opportunity to comment on applications for proposed EFPs.

DATES: Comments must be received on or before September 8, 2009.

ADDRESSES: Comments may be submitted by email to NERO.EFP@noaa.gov. Written comments should be sent to Patricia A. Kurkul, Regional Administrator, NMFS, Northeast Regional Office, 55 Great Republic Drive, Gloucester, MA 01930. Mark the outside of the envelope “Comments on the SNE Flatfish Discard Mortality EFP.” Comments may also be sent via facsimile (fax) to (978) 281-9135.

FOR FURTHER INFORMATION CONTACT: Melissa Vasquez, Fishery Management Specialist, (978) 281-9166, fax (978) 281-9135.

SUPPLEMENTARY INFORMATION: An EFP is being requested for eight vessels participating in the Southern New England (SNE) Flatfish Discard Mortality Study conducted by the NOAA/University of Massachusetts Dartmouth School for Marine Science and Technology (SMAST) Cooperative Marine Education and Research program. The primary objective of this study is to assess the effects of different stressors on the mortality of flatfish discarded in the SNE and Mid-Atlantic trawl fisheries. The researchers would conduct field and lab observations of flatfish captured during regular commercial fishing operations for Reflex Action Mortality Predictors (RAMP) under different stressors to assess the discard mortality rates of five flatfish species: SNE yellowtail flounder; SNE winter flounder; summer flounder; northern windowpane flounder; and southern windowpane flounder. In addition, the applicants would use the results of their study to assess the use of RAMP in estimating the mortality of each species within the flatfish complex.

The study would be conducted aboard eight commercial fishing vessels in the SNE and Mid-Atlantic mixed trawl fishery beginning the date of issuance of the EFP and continuing for a full year. All vessels would utilize otter trawl gear with gear configuration and mesh size dictated by current fishery regulations. NOAA/University of Massachusetts technicians and/or commercial fishermen would collect 100 fish of each species per month, during regular commercial fishing operations, for a maximum catch of 6,000 fish over the course of the 12-month study (Table 1). Fish would be landed and transported live to the SMAST seawater lab facility for testing and would not be sold. The applicants have requested an exemption from NE multispecies possession restrictions for SNE yellowtail flounder, SNE winter flounder, and northern windowpane flounder, specified at §§ 648.86(g)(1), 648.86(n)(1), and 648.86(n)(2), respectively, in order to land the live specimens in excess of possession limits. The applicants have also requested an exemption from NE multispecies minimum fish sizes specified at § 648.83 and the summer flounder minimum fish size at § 648.103(a) in order to test a representative sample of the age composition of discarded flatfish.

Table 1: Estimated Sample Size
Species | #fish/month | #fish total
SNE Yellowtail Flounder | 100 | 1200
SNE Winter Flounder | 100 | 1200
Summer Flounder | 100 | 1200
Northern Windowpane Flounder | 100 | 1200
Southern Windowpane Flounder | 100 | 1200

For the field-based portion of the study, technicians would observe a minimum of 100 fish of each species on commercial fishing trips for RAMP before they are discarded at-sea. The applicants would require a temporary exemption from the summer flounder commercial minimum fish size restriction at § 648.103(a), the NE multispecies minimum fish size restrictions at § 648.83, and the NE multispecies possession restrictions at §§ 648.86(g)(1), 648.86(n)(1), and 648.86(n)(2), for the time period when trained technicians or crew are sampling fish. To ensure that monthly sampling is not disrupted, the applicants have also requested vessels be exempt from the summer flounder closure specified at § 648.101(a) for the purposes of collecting the 100 live specimens of each species each month.

The applicants may request minor modifications and extensions to the EFP throughout the course of research. EFP modifications and extensions may be granted without further public notice if they are deemed essential to facilitate completion of the proposed research and result in only a minimal change in the scope or impacts of the initially approved EFP request.

In accordance with NAO Administrative Order 216-6, a Categorical Exclusion or other appropriate National Environmental Policy Act document would be completed prior to the issuance of the EFP. Further review and consultation may be necessary before a final determination is made to issue the EFP. After publication of this document in the Federal Register, the EFP, if approved, may become effective following the public comment period.

Authority: 16 U.S.C. 1801 et seq.

Dated: August 17, 2009.
Kristen Koch,
Acting Deputy Director, Office of Sustainable Fisheries, National Marine Fisheries Service.

[FR Doc. E9-20096 Filed 8-20-09; 8:45 am]

BILLING CODE 3510-22-S